SMALL BUSINESS ADMINISTRATION

Disaster Declaration #16533 and #16534; Michigan Disaster Number MI-00084; Presidential Declaration Amendment of a Major Disaster for the State of Michigan

AGENCY: Small Business Administration.

ACTION: Disaster declaration; Amendment 1.

SUMMARY: This is an amendment of the Presidential declaration of a major disaster for the State of MICHIGAN (FEMA-4547-DRs), dated 07/09/2020.

Incident: Severe Storms and Flooding.

Incident Period: 05/16/2020 through 05/22/2020.

DATES: Issued on 09/08/2020.

Physical Loan Application Deadline Date: 09/30/2020.

Economic Injury (EIDL) Loan Application Deadline Date: 04/09/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Michigan, dated 07/09/2020, is hereby amended to extend the deadline for filing applications for physical damages as a result of this disaster to 09/30/2020.

All other information in the original declaration remains unchanged.

(Catalog of Federal Domestic Assistance Number 59008)

Cynthia Pitts,
Acting Associate Administrator for Disaster Assistance.

[FR Doc. 2020-20107 Filed 9-11-20; 8:45 am]

BILLING CODE 8026-03-P